AFRICAN DEVELOPMENT FOUNDATION

Board of Directors Meeting; African Development Foundation, Board of Directors Meeting

Time: Tuesday, August 2, 2011, 9 a.m. to 12 p.m.

Place: African Development Foundation, Conference Room, 1400 I Street, NW., Suite 1000, Washington, DC 20005.

Dates: Tuesday, August 2, 2011.

Status:

1. Open session, Tuesday, August 2, 2011, 9 a.m. to 11 a.m.; and

2. Closed session, Tuesday, August 2, 2011, 11 p.m. to 12 p.m.

Due to security requirements and limited seating, all individuals wishing to attend the open session of the meeting must notify Sarah Conway at (202) 233-8811 or sconway@usadf.gov of your request to attend by 5 p.m. on Thursday, July 28, 2011.

Lloyd O. Pierson,
President & CEO, USADF.

[FR Doc. 2011-18437 Filed 7-20-11; 8:45 am]

BILLING CODE 6117-01-P